SOCIAL SECURITY ADMINISTRATION

20 CFR Part 404

RIN 0960-AE69

Coverage of Employees of State and Local Governments; Office of Management and Budget (OMB) Control Number

AGENCY: Social Security Administration (SSA).

ACTION: Final rule.

SUMMARY: We revised our regulations which contain the rules on providing Social Security coverage for the services of employees of State and local governments and interstate instrumentalities on August 29, 1988 (53 FR 32972). The regulations were effective August 29, 1988 with the exception of several sections which contained information collection and recordkeeping requirements which were not effective until they were subsequently approved by OMB. This final regulation notifies the public that the information collection and recordkeeping requirements for those sections were approved by OMB and provides the OMB control number. It also provides the OMB control number for the information collection requirements in two additional sections.

EFFECTIVE DATES: This amendment is effective on May 25, 2001. 20 CFR 404.1203, 404.1204(a)(5) and (b), 404.1214(d), 404.1216(a), 404.1220. 404.1225, 404.1237, 404.1239, 404.1242, 404.1243, 404.1247, 404.1249, 404.1251, 404.1265, 404.1271, 404.1272 became effective on December 2, 1988 when OMB approved the information collection and recordkeeping requirements.

The reporting requirements in § 404.1215 were approved by OMB on May 23, 1996, and the reporting requirements in § 404.1292 were approved by OMB on August 16, 1999.

FOR FURTHER INFORMATION CONTACT: Georgia E. Myers, Regulations Officer, Office of Process and Innovation Management, Social Security Administration, 2109 West Low Rise Building, 6401 Security Boulevard, Baltimore, MD 21235-6401, (410) 965-1713 or TTY (410) 966-5609. For information on eligibility, claiming benefits, or coverage of earnings, call our national toll-free number, 1-800-772-1213 or TTY 1-800-325-0778, or visit our Internet web site, Social Security Online, at www.ssa.gov.

SUPPLEMENTARY INFORMATION: Under the provisions of the Paperwork Reduction Acts of 1980 and 1995, Federal agencies are required to obtain OMB approval of information collection and recordkeeping requirements that are contained in any regulations they publish. Once OMB has given its approval, OMB's regulations recommend that Federal agencies, in certain situations, display the control number assigned by OMB as part of the agency's regulatory text.

When we published a revision to 20 CFR 404, subpart M in the Federal Register on August 29, 1988 (53 FR 32972), several sections of subpart M (§§ 404.1203, 404.1204(a)(5) and (b), 404.1214(d), 404.1216(a), 404.1220, 404.1225, 404.1237, 404.1239, 404.1242, 404.1243, 404.1247, 404.1249, 404.1251, 404.1265, 404.1271 and 404.1272) contained information collection and recordkeeping requirements requiring OMB approval. We stated in the Preamble to those regulations that the regulations containing information collection and recordkeeping requirements were not effective on August 29, 1988, but would be effective upon OMB approval of those requirements. We also stated in the Preamble that when OMB gave its approval, notification of the approval would be published in the Federal Register.

As required by OMB's regulations in effect at that time, we published a notice in the Federal Register on October 7, 1988 (53 FR 39523) stating we had submitted these information collection and recordkeeping requirements to OMB for approval. OMB approved the information collection and recordkeeping requirements under control number 0960-0425 on December 2, 1988. On March 15, 1991, we published a notice in the Federal Register at 56 FR 11234 which advised the public that OMB had approved the reporting and recordkeeping requirements and provided the OMB control number and period of approval.

We requested an extension of the OMB approval of the information collection and recordkeeping requirements and published notices in the Federal Register on April 7, 1999 (64 FR 17051) and June 18, 1999 (64 FR 32913). The public had 60 days from the April 7, 1999 notice to comment and 60 days from the June 18, 1999 notice to comment; however, no public comments were received. OMB approved our request for extension of approval on August 16, 1999.

When the regulations were published on August 29, 1988, the Office of the Federal Register (OFR) added Effective Date Notes to the end of each of the sections designated as not being in effect because they contained information collection and recordkeeping requirements subject to OMB approval. These Effective Date Notes say that the sections will become effective upon approval of the reporting and recordkeeping requirements by OMB. When we amended § 404.1220 on August 16, 1995 (60 FR 42431), the Effective Date Note was still included with that section even though we had obtained OMB approval. OFR advised us that, in order for them to remove the Effective Date Notes, we must publish another regulation; i.e., they could not be removed on the basis of the notice we had published on March 15, 1991. The regulation would notify the public that OMB has given its approval and that the regulations containing the information collection and recordkeeping requirements are in effect. Therefore, in this final rule, we are publishing such a notification and are amending our regulations to show the OMB control number at the end of each section.

In addition, § 404.1215 contains information collection requirements. As required by OMB's regulations, we published notices in the Federal Register on December 29, 1995 (60 FR 67387) and March 15, 1996 (61 FR 10838) concerning the collection request in § 404.1215. The public had 60 days from the December 29, 1995 notice to comment on it and 30 days from the March 15, 1996 notice to comment; however, no public comments were received. OMB approved the information collection requirements for § 404.1215 on May 23, 1996 and assigned a control number (0960-0425). We requested an extension of the OMB approval for the information collection requirements in this section, along with the other regulations sections previously discussed in this Preamble, and published notices in the Federal Register on April 7, 1999 (64 FR 17051) and June 18, 1999 (64 FR 32913). As previously stated, OMB approved the request for extension of approval on August 16, 1999. We are now amending our regulations to show the OMB control number at the end of § 404.1215.

Finally, § 404.1292 also contains information collection requirements. We submitted § 404.1292 with the other regulatory sections previously discussed in this Preamble in the request for an extension of the OMB approval, and published the notices in the Federal Register on April 7, 1999 (64 FR 17051) and June 18, 1999 (64 FR 32913). As previously discussed, OMB approved the request on August 16, 1999. We are now amending our regulations to show the OMB control number at the end of § 404.1292.

Regulatory Procedures

Justification for Final Rule

Pursuant to section 702(a)(5) of the Social Security Act, SSA follows the Administrative Procedure Act (APA) rulemaking procedures specified in 5 U.S.C. 553 in the development of its regulations. The APA provides exceptions to its notice and public comment procedures when an agency finds there is good cause for dispensing with such procedures on the basis that they are impracticable, unnecessary, or contrary to the public interest. We have determined that, under 5 U.S.C. 553(b)(B), good cause exists for waiver of the notice and public comment procedures for this regulation because those procedures are unnecessary in this situation. This regulation does not contain discretionary policy or substantive change, but merely notifies the public of prior OMB approval for the information collection and recordkeeping requirements contained in several sections and supplies the OMB control number for several sections. Therefore, we are issuing this regulation as a final rule.

In addition, we find good cause for dispensing with the 30-day delay in the effective date, as provided by 5 U.S.C. 553(d), because such delay in unnecessary. This is not a substantive rule. It merely notifies the public of prior OMB approval for several sections and provides the OMB control number for several sections.

Executive Order 12866

We have consulted with OMB and determined that this rule does not meet the criteria for a significant regulatory action under Executive Order 12866. Thus, it was not subject to OMB review. We have also determined that this final rule meets the plain language requirement of Executive Order 12866.

Regulatory Flexibility Act

We certify that this final regulation will not have a significant economic impact on a substantial number of small entities, including small governmental jurisdictions. Therefore, a regulatory flexibility analysis as provided in the Regulatory Flexibility Act, as amended, is not required.

Paperwork Reduction Act

This final regulation imposes no additional reporting/recordkeeping requirements necessitating clearance by OMB.

(Catalog of Federal Domestic Assistance Program No. 96.001 Social Security—Disability Insurance; 96.002 Social Security—Retirement Insurance; and 96.004 Social Security—Survivors Insurance)

List of Subjects in 20 CFR Part 404

Administrative practice and procedure, Blind, Disability benefits, Old-age, Survivors and Disability insurance, Reporting and recordkeeping requirements, Social security.

Dated: May 18, 2001.
Larry G. Massanari,
Acting Commissioner of Social Security.

For the reasons set forth in the preamble, subpart M of 20 CFR part 404 is amended as set forth below.

PART 404—FEDERAL OLD-AGE, SURVIVORS AND DISABILITY INSURANCE (1950- )

Subpart M—[Amended]

1. The authority citation for subpart M of part 404 continues to read as follows:

Authority: Secs. 205, 210, 218, and 702(a)(5) of the Social Security Act (42 U.S.C. 405, 410, 418, and 902(a)(5)); sec. 12110, Pub. L. 99-272, 100 Stat. 287 (42 U.S.C. 418 note); sec. 9002, Pub. L. 99-509, 100 Stat. 1970.

2. A parenthetical is added to the end of sections 404.1203, 404.1204, 404.1214, 404.1215, 404.1216, 404.1220, 404.1225, 404.1237, 404.1239, 404.1242, 404.1243, 404.1247, 404.1249, 404.1251, 404.1265, 404.1271, 404.1272, and 404.1292 to read as follows:

(Approved by the Office of Management and Budget under control number 0960-0425.)

[FR Doc. 01-13242 Filed 5-24-01; 8:45 am]

BILLING CODE 4191-02-P